DEPARMENT OF HEALTH AND HUMAN SERVICES

Health Resources and Services Administration

[CFDA 93.145, HRSA 04-008]

AIDS Education and Training Centers, National Evaluation Center Cooperative Agreement (NECCA); Open Competition Announcement

AGENCY: Health Resources and Services Administration, HHS.

ACTION: Notice of Open Competition Cooperative Agreement.

SUMMARY: The Health Resources and Services Administration's (HRSA) HIV/AIDS Bureau (HAB) announces that applications will be accepted for fiscal year (FY) 2004 awards for a cooperative agreement to support the AIDS Education and Training Centers' (AETCs) National Evaluation Center (NEC). The NEC will provide evaluation services and support to the network of Regional and National AETCs. The purpose of the NEC is to develop, test, and disseminate methods and models for evaluating the impact of clinical education and training on provider behavior and clinical practice, with respect to changes in knowledge and skills, clinical practice behavior, and clinical outcomes.

The purpose of the Regional and National Minority AETCs is to improve the quality of HIV/AIDS clinical care through the training of health care professionals. The Regional and National Minority AETCs enhance the availability of high quality HIV care through training and support of clinical providers, and prioritize the clinical support and training needs of direct medical care providers, including physicians, nurses, physician's assistants, advance practice nurses, pharmacists, and oral health providers. The Regional and National Minority AETCs conduct assessments of regional HIV/AIDS care delivery systems and develop innovative programs to build, through training and support, HIV/AIDS care capacity to fill identified gaps. The Regional and National Minority AETCs target clinical providers caring for communities of color and populations disproportionately affected by the HIV/AIDS virus, particularly providers and those associated with Ryan White Comprehensive AIDS Resources Emergency (CARE) Act supported facilities.

As an active partner in this cooperative agreement, HRSA will have significant involvement with the applicant regarding program plans, policies, and other issues which may have major implications for any activity undertaken by the applicant under the cooperative agreement. HRSA will partner in the development of methods and tools, and selection of pilot sites. HRSA will also review and approve each phase of evaluation studies, and review and process Office of Management and Budget (OMB) Clearance package(s). Additionally, HRSA will assist and guide in program management and evaluation technical assistance. HRSA will participate, as warranted, in the planning and coordination of meetings workgroups and workshops conducted during the term of this Agreement by reviewing activities and providing feedback and recommendations as necessary. Lastly, HRSA will approve all documents, evaluation tools, methodology, articles, and reports before they are disseminated.

Availability of Funds: It is anticipated that a single recipient will be selected for the AETCs NEC Cooperative Agreement, and a total of approximately $450,000 will be available for the first year. It is anticipated that the project funding will be for 3 years. After the first year, continuation funding will be awarded on the basis of satisfactory progress and the availability of funds. Applicants are not required to match or share in project costs if an award is made. However, applicants must propose cost-effective and efficient plans to implement project activities with funds awarded.

Eligible Applicants: Funding will be directed to activities designed for documentation and data collection, outcome evaluation, technical assistance, writing and dissemination.

Authorizing Legislation: The Authority for this grant program is Section 2692 (a) of the Public Health Service Act, as amended, 42 U.S.C 300ff-111(a).

DATES: A letter of intent to submit an application is requested by August 27, 2003. Applications for this cooperative agreement must be received in the HRSA Grant Application Center by close of business October 6, 2003. Applications shall be considered as meeting the deadline if they are (1) Received on or before the deadline date or (2) are postmarked on or before the deadline date and received in time for orderly processing and submission to the review committee. Applicants should request a legibly dated receipt from a commercial carrier or U.S. Postal Service postmark. Private metered postmarks will not be accepted as proof of timely mailing. Applications postmarked after the due date will be returned to the applicant.

Where To Request and Send an Application: To obtain an application kit (PHS-5161) and program guidance materials for this announcement call the HRSA Grants Application Center at 877-477-2123 and request the OMB Catalogue of Federal Domestic Assistance number 93.145, HRSA 04-008, Program Code NECCA. HRSA anticipates accepting grant applications online in the last quarter of the fiscal year (July through September). Please refer to the HRSA Grants Schedule at http://www.hrsa.gov/grants/ for more information. One original application plus two copies should be mailed or delivered to HRSA Grant Application Center, 901 Russell Avenue Suite 450, Gaithersburg, MD 20879. Grant applications sent to any other address are subject to being returned. Applicants will receive a Grant Application Receipt form from the HRSA Grants Application Center to confirm receipt of their application. Applicants may also contact the center directly to confirm receipt.

ADDRESSES: The letter of intent to apply for funding should be mailed to Marisol M. Rodriguez, HIV/AIDS Bureau, Health Resources and Services Administration, 5600 Fishers Lane, Room 7-46, Rockville, MD 20857.

FOR FURTHER INFORMATION CONTACT: Additional technical information may be obtained from Faye Malitz, HIV/AIDS Bureau, Health Resources and Services Administration, 5600 Fishers Lane 7-90, Rockville, MD 20857; telephone number (301) 443-3259, fax number (301) 594-2511, and e-mail fmalitz@hrsa.gov. You may also contact Marisol M. Rodriguez, HIV Education Branch, HRSA, 5600 Fishers Lane, Room 7-46, Rockville, MD 20857; telephone number (301) 443-4082, fax number (301) 443-9887, or e-mail mrodriguez@hrsa.gov.

SUPPLEMENTARY INFORMATION: Applications will be reviewed by an objective review committee using the following criteria: Understanding of the Problem, Professional Qualifications and Expertise of Applicant, Organizational Capacity, Methods and Program Plan, and Appropriateness and Justification of the Budget.

Paperwork Reduction Act: The application for the AETCs Program has been approved by the Office of Management and Budget (OMB) under the Paperwork Reduction Act. The AETCs Program is not subject to Executive Order 12372, Intergovernmental Review of Federal Programs as implemented through 45 CFR, part 100. Executive Order 12372 allows States to review applications submitted to the Federal Government by organizations located in their State through a Single Point of Contact (SPOC). For a list of States and territories that participate in the SPOC review process, please go to the following Web site address: http://www.whitehouse.gov/omb/grants/spoc.html.

Dated: July 13, 2003.
Elizabeth M. Duke,
Administrator.

[FR Doc. 03-19996 Filed 8-5-03; 8:45 am]

BILLING CODE 4165-15-P